GENERAL SERVICES ADMINISTRATION

[OMB Control No. 3090-0277]

Office of Citizen Services and Communications; Information Collection; Market Research Collection

AGENCY: Office of Citizen Services and Communications, General Services Administration (GSA).

ACTION: Notice of request for comments regarding a renewal to an existing OMB clearance.

SUMMARY: Under the provisions of the Paperwork Reduction Act of 1995 (44 U.S.C. Chapter 35), the General Services Administration has submitted to the Office of Management and Budget (OMB) a request to review and approve a renewal of a currently approved information collection requirement regarding Market Research for the Office of Citizen Services and Communications. A request for public comments was published at 70 FR 69154, November 14, 2005. No comments were received.

This information collection will be used to determine the utility and ease of use of GSA's Web site, http://www.gsa.gov. The respondents include individuals and representatives from businesses currently holding GSA contracts.

Public comments are particularly invited on: Whether this collection of information is necessary and whether it will have practical utility; whether our estimate of the public burden of this collection of information is accurate, and based on valid assumptions and methodology; ways to enhance the quality, utility, and clarity of the information to be collected.

DATES: Submit comments on or before: March 3, 2006.

FOR FURTHER INFORMATION CONTACT: Ms. Jocelyn Johnson, Office of Citizen Services and Communications, at telephone (202) 208-0043, or via e-mail to jocelyn.johnson@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (VIR), General Services Administration, Room 4035, 1800 F Street, NW., Washington, DC 20405. Please cite OMB Control No. 3090-0277, Market Research Collection for the Office of Citizen Services and Communications, in all correspondence.

SUPPLEMENTARY INFORMATION:

A. Purpose

The General Services Administration will be requesting the Office of Management and Budget (OMB) to review and approve information collection 3090-0277 concerning Market Research Collection for the Office of Citizen Services and Communications. The purpose of this information collection is to inform GSA on how to best provide service and relevance to the American public via GSA's Web site http://www.gsa.gov. The information collected from an online survey, focus groups, and Web site usability testing will be used to refine the http://www.gsa.gov Web site. The questions to be asked are non-invasive and do not address or probe sensitive issues. It is important for the GSA to gain information from the many diffuse groups it serves; therefore, the GSA will be questioning individuals and households, and businesses and other for-profit groups.

B. Annual Reporting Burden

Respondents: 190.

Responses Per Respondent: 1.

Total Responses: 190.

Hours Per Response: 72.6 minutes.

Total Burden Hours: 230.

Obtaining Copies of Proposals: Requesters may obtain a copy of the information collection documents from the General Services Administration, Regulatory Secretariat (VIR), 1800 F Street, NW., Room 4035, Washington, DC 20405, telephone (202) 208-7312. Please cite OMB Control No. 3090-0277, Market Research Collection for the Office of Citizen Services and Communications, in all correspondence.

Dated: January 23, 2006.
Michael W. Carleton,
Chief Information Officer.

[FR Doc. E6-1217 Filed 1-31-06; 8:45 am]

BILLING CODE 6820-CX-S